Title 3—

The President

Proclamation 7282 of March 24, 2000

Education and Sharing Day, U.S.A., 2000

By the President of the United States of America

A Proclamation

As we welcome a new millennium, America stands at a unique moment in time. We can look back over the past century, where we experienced profound advances in science, medicine, and technology that fundamentally altered the world in which we live. At the same time, we can look ahead to a new century filled with unparalleled promise and unlimited possibilities for further progress.

Throughout our Nation's history, education has been at the heart of achievement in America, and it is the key to meeting the challenges and seizing the opportunities that lie before us. To succeed in the global community of the 21st century, we must provide all our citizens with a world-class, well-rounded education. We must ensure that every American has not only the knowledge and the skills he or she needs to flourish, but also a solid foundation of moral guidance and values. As the technology revolution breaks down barriers of geography, culture, and economic status, it is more crucial than ever that young people learn the importance of tolerance, cooperation, and sharing. Imbued with these values and enriched by a quality education, our children can look forward to a bright future.

Rabbi Menachem Mendel Schneerson, the Lubavitcher Rebbe, recognized early the importance of such comprehensive learning. In addition to being one of the world's highly respected religious leaders, he was also an accomplished scholar in mathematics and science. Understanding that both secular education and spiritual training contribute enormously to human development, he sought to provide young people with fresh opportunities for academic, social, and moral enrichment through the more than 2,000 educational and social institutions he established throughout our country and around the world. His efforts continue to bear fruit today, helping a new generation to develop into responsible and mature adults.

As we observe this special day, let us renew our commitment to excellence in education and to nurturing our young people's academic and spiritual development. Let us also remember the example of Rabbi Schneerson and pass on to our children the values and knowledge that have strengthened our Nation in the past and that will empower us to face the challenges of the future.

NOW, THEREFORE, I, WILLIAM J. CLINTON, President of the United States of America, by virtue of the authority vested in me by the Constitution and laws of the United States, do hereby proclaim March 28, 2000, as Education and Sharing Day, U.S.A. I invite Government officials, educators, volunteers, and all the citizens of the United States to observe this day with appropriate activities, programs, and ceremonies.

IN WITNESS WHEREOF, I have hereunto set my hand this twenty-fourth day of March, in the year of our Lord two thousand, and of the Independence of the United States of America the two hundred and twenty-fourth.

wj

[FR Doc. 00-7825

Filed 3-27-00; 11:45 am]

Billing code 3195-01-P